ENVIRONMENTAL PROTECTION AGENCY

40 CFR Part 52

[EPA-R05-OAR-2008-0239; FRL-8896-3]

Approval and Promulgation of Air Quality Implementation Plans; Minnesota

AGENCY: Environmental Protection Agency (EPA).

ACTION: Direct final rule.

SUMMARY: EPA is approving site specific revisions to the Minnesota sulfur dioxide (SO2) State Implementation Plan (SIP) for the Federal Cartridge Company and Hoffman Enclosures, located in the city of Anoka, Anoka County, Minnesota. On March 3, 2008, the Minnesota Pollution Control Agency (MPCA) requested that EPA approve certain portions of joint Title I/Title V documents into the Minnesota SO2 SIP for Federal Cartridge Company and Hoffman Enclosures. The state is also requesting in this submittal that EPA rescind the Administrative Order issued to Federal Hoffman, Inc. which is currently included in Minnesota's SIP for SO2. The emissions units previously owned by Federal Hoffman, Inc., are now owned by Federal Cartridge Company and Hoffman Enclosures. Because the sulfur dioxide emission limits are being reduced, the air quality of Anoka County will be protected.

DATES: This direct final rule will be effective June 23, 2009, unless EPA receives adverse comments by May 26, 2009. If adverse comments are received, EPA will publish a timely withdrawal of the direct final rule in the Federal Register informing the public that the rule will not take effect.

ADDRESSES: Submit your comments, identified by Docket ID No. EPA-R05-OAR-2008-0239, by one of the following methods:

1. www.regulations.gov: Follow the on-line instructions for submitting comments.

2. E-mail: mooney.john@epa.gov.

3. Fax: (312) 692-2551.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2008-0239. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Gilberto Alvarez, Environmental Scientist, at (312) 886-6143 before visiting the Region 5 office.

FOR FURTHER INFORMATION CONTACT: Gilberto Alvarez, Environmental Scientist, Criteria Pollutant Section, Air Programs Branch (AR-18J), U.S. Environmental Protection Agency, Region 5, 77 West Jackson Boulevard, Chicago, Illinois 60604, (312) 886-6143, alvarez.gilberto@epa.gov.

SUPPLEMENTARY INFORMATION: Throughout this document whenever “we,” “us,” or “our” is used, we mean EPA. This SUPPLEMENTARY INFORMATION section is arranged as follows:

I. What Is EPA Approving?

II. What Is the Background for This Action?

III. What Is EPA's Analysis of the State Submission?

IV. What Are the Environmental Effects of This Action?

V. What Action Is EPA Taking?

VI. Statutory and Executive Order Reviews

I. What Is EPA Approving?

EPA is approving into the SO2 SIP for Minnesota joint Title I/Title V documents for Federal Cartridge Company and Hoffman Enclosures, located in Anoka, Minnesota. This SIP amendment approval will replace the Administrative Order issued to Federal Hoffman, Inc. with the joint documents issued to Federal Cartridge Company and Hoffman Enclosures.

II. What Is the Background for This Action?

A. What Are the Revisions to the SIP?

The SIP is being amended to reflect a change in ownership of the facility and the emissions units that are subject to SIP conditions. The Administrative Order currently approved into the SIP was issued to Federal Hoffman, Inc. The emission units previously owned by Federal Hoffman, Inc. are now owned by two companies, Federal Cartridge Company and Hoffman Enclosures. The SIP revision rescinds the Administrative Order issued to Federal Hoffman, Inc. and replaces it with Title I SIP Conditions included in the Air Emission Permit No. 00300155-001, for Hoffman Enclosures, and Permit No. 00300156-003, for Federal Cartridge Company, which serve as joint Title I/Title V documents.

Federal Cartridge Company is a manufacturer of small arms, shotgun, rimfire and centerfire ammunitions. The facility currently owns the majority of emissions units that are subject to SO2 emission limits or operating standards under the Order issued to Federal Hoffman, Inc. The only changes to the SIP for units owned by Federal Cartridge Company are fuel restrictions for two steam boilers. Previously, they were allowed to burn natural gas and residual fuel oil. They are now limited to burning natural gas and propane, both low sulfur fuels.

Hoffman Enclosures manufactures sheet metal electrical enclosures. Hoffman Enclosures previously owned and operated a single emergency diesel generator subject to SIP conditions through the Order issued to Federal Hoffman, Inc. This unit has been decommissioned and is no longer in use, resulting in a reduction in SO2. Hoffman Enclosures installed one other combustion unit on the site, an emergency fire pump. This unit may only burn No. 2 diesel fuel, and at maximum capacity has the potential to emit 0.29 pounds per million British Thermal Units. This unit is very small and only operates under emergency conditions. Modeling performed in support of the original SIP for Federal Hoffman, Inc., attributed the majority of SO2 emissions to the burning of residual fuel oil in one boiler. Since this type of fuel will no longer be burned, overall ambient concentrations of SO2 are expected to decrease.

B. What Prior SIP Actions Are Pertinent to This Action?

On December 28, 2007, MPCA issued an Air Emission Permit No. 00300156-003 to Federal Cartridge Company. The permit is a joint Title I/Title V document. The main emissions from the facility are nitrogen oxides (NOX). The permit limits the NOX and Hazardous Air Pollutants (HAPs) emissions of the facility such that the facility is classified as a non-major source under Federal New Source Review. The facility is part of the SIP to reach attainment of SO2 National Ambient Air Quality Standards (NAAQS) in the Twin Cities area. The Title I conditions contained in the permit will ultimately be included in the SIP, and will replace the Administrative Order.

On January 31, 2008, MPCA issued an Air Emission Permit No. 00300155-001 to Hoffman Enclosures. The permit is a joint Title I/Title V document. The main emissions from the facility are VOCs and HAPs. The permit limits emissions of the facility such that the facility is classified as a non-major source under federal New Source Review. The facility is part of the SIP to reach attainment of SO2 NAAQS in the Twin Cities area. The Title I conditions contained in the permit will ultimately be included in the SIP, and will replace the Administrative Order.

C. Has Public Notice Been Provided?

MPCA published public notices for the Federal Cartridge Company and Hoffman Enclosures actions on November 27, 2007, and December 20, 2007, respectively. No comments were received during the comment period which ended on January 22, 2008. In the public notices, MPCA stated it would hold a public hearing if one were requested during the comment period. This follows the alternative public participation process EPA approved on June 5, 2006 (71 FR 32274). For limited types of SIP revisions that the public has shown little interest in, a public hearing is not automatically required. If anyone requests a public hearing during the comment period, MPCA will hold a public hearing. Because no one requested a public hearing, MPCA did not hold a public hearing for these SIP revisions.

D. What Are Title I Conditions and Joint Title I/Title V Documents?

SIP control measures were contained in permits issued to culpable sources in Minnesota until 1990 when EPA determined that limits in state-issued permits are not Federally-enforceable because the permits expire. MPCA then issued permanent Administrative Orders to culpable sources in nonattainment areas from 1991 to February of 1996.

MPCA's consolidated permitting regulations, which EPA approved into the state SIP on May 2, 1995 (60 FR 21447), include the term “Title I condition” which was written, in part, to satisfy EPA requirements that SIP control measures remain permanent. A “Title I condition” is defined as “any condition based on source-specific determination of ambient impacts imposed for the purposes of achieving or maintaining attainment with the national ambient air quality standard and which was part of the state implementation plan approved by EPA or submitted to the EPA pending approval under section 110 of the act * * *.” The rule also states that “Title I conditions and the permittee's obligation to comply with them, shall not expire, regardless of the expiration of the other conditions of the permit.” Further, “any Title I condition shall remain in effect without regard to permit expiration or reissuance, and shall be restated in the reissued permit.”

MPCA has initiated using joint Title I/Title V documents as the enforceable document for imposing emission limitations and compliance requirements in SIPs. The SIP requirements in joint Title I/Title V documents submitted by MPCA are cited as “Title I conditions,” therefore ensuring that SIP requirements remain permanent and enforceable. EPA reviewed the state's procedure for using joint Title I/Title V documents to implement site-specific SIP requirements and found it to be acceptable under both Titles I and V of the Clean Air Act (CAA) (July 3, 1997 letter from David Kee, EPA, to Michael J. Sandusky, MPCA). Further, a June 15, 2006, letter from EPA to MPCA clarifies procedures to transfer requirements from Administrative Orders to joint Title I/Title V documents.

III. What Is EPA's Analysis of the State Submission?

Federal Hoffman, Inc., owned units included in the SO2 SIP for the Twin Cities area. The changes made in this SIP revision are changes to the ownership of various units that are subject to SIP requirements, as well as changes to the enforceable document. The emissions units previously owned by Federal Hoffman, Inc. are now owned by Federal Cartridge Company and Hoffman Enclosures.

A modeling analysis conducted for the Federal Hoffman facility SIP revision showed that the majority of the SO2 emissions impact came from the burning of residual fuel oil in one of the boilers. As this type of fuel will no longer be burned, the ambient concentration of SO2 will decrease.

IV. What Are the Environmental Effects of This Action?

Ambient SO2 levels are expected to decrease because of the SIP revisions. Thus, the Anoka County area in Minnesota is expected to remain in attainment of the SO2 NAAQS.

SO2 causes breathing difficulties and aggravation of existing cardiovascular disease. It is also a precursor of acid rain and fine particulate matter formation. Sulfate particles are a major cause of visibility impairment in the United States. Acid rain damages lakes and streams, impairing aquatic life, and causes damage to buildings, sculptures, statues and monuments. SO2 also causes the loss of chlorophyll leading to vegetation damage.

V. What Action Is EPA Taking?

EPA is approving site specific revisions to the Minnesota SO2 SIP for the Federal Cartridge Company and Hoffman Enclosures, located in the city of Anoka, Anoka County, Minnesota. The SIP revision also rescinds the Administrative Order issued to Federal Hoffman, Inc. and replaces it with a Title I SIP Conditions included in the Air Emission Permit No. 00300155-001, for Hoffman Enclosures, and Permit No. 00300156-003, for Federal Cartridge Company, which serves as joint Title I/Title V documents.

We are publishing this action without prior proposal because we view this as a noncontroversial amendment and anticipate no adverse comments. However, in the proposed rules section of this Federal Register publication, we are publishing a separate document that will serve as the proposal to approve the state plan if relevant adverse written comments are filed. This rule will be effective June 23, 2009 without further notice unless we receive relevant adverse written comments by May 26, 2009. If we receive such comments, we will withdraw this action before the effective date by publishing a subsequent document that will withdraw the final action. All public comments received will then be addressed in a subsequent final rule based on the proposed action. EPA will not institute a second comment period. Any parties interested in commenting on this action should do so at this time. If we do not receive any comments, this action will be effective June 23, 2009.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 23, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur oxides.

Dated: April 9, 2009.
Bharat Mathur,
Acting Regional Administrator, Region 5.

40 CFR part 52 is amended as follows:

PART 52—[AMENDED]

1. The authority citation for part 52 continues to read as follows:

Authority: 42 U.S.C. 7401 et seq.

Subpart Y—Minnesota

2. In § 52.1220 the table in paragraph (d) is amended by removing the entry for “Federal Hoffman, Incorporated” and adding entries, in alphabetical order, for “Federal Cartridge Company” and “Hoffman Enclosures” to read as follows:

§ 52.1220 Identification of plan.

* * * * *

(d) * * *

EPA-Approved Minnesota Source-Specific Permits
Name of source | Permit No. | State effective date | EPA approval date | Comments
* * * * * * *
Federal Cartridge Company | 00300156-003 | 12/28/07 | 04/24/09, [Insert page number where the document begins] | Only conditions cited as “Title I condition: SIP for SO2 NAAQS.”
* * * * * * *
Hoffman Enclosures | 00300155-001 | 01/31/08 | 04/24/09, [Insert page number where the document begins] | Only conditions cited as “Title I condition: SIP for SO2 NAAQS.”
* * * * * * *

* * * * *

[FR Doc. E9-9361 Filed 4-23-09; 8:45 am]

BILLING CODE 6560-50-P